DEPARTMENT OF AGRICULTURE

Forest Service

Southwest Montana Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Beaverhead-Deerlodge National Forest's Southwest Montana Resource Advisory Committee will meet on Monday April 19, 2010, from 1 p.m. until 4 p.m., in Dillon, Montana. The purpose of the meeting is to review funding proposals for Title II funding.

DATES: Monday, April 19, 2010, from 1 p.m. until 4 p.m.

ADDRESSES: The meeting will be held at the Beaverhead-Deerlodge Forest Head quarters located at 420 Barrett Street, Dillon, Montana (MT 59725).

FOR FURTHER INFORMATION CONTACT: Patty Bates, Committee Coordinator, Beaver head-Deerlodge National Forest, 420 Barrett Road, Dillon, MT 59725 (406) 683-3979; e-mail pbates@fs.fed.us.

SUPPLEMENTARY INFORMATION: Agenda for this meeting include discussion about (1) Orientation to the reauthorized legislation; (2) Purpose of the Secure Rural Schools Act; (3) Roles and responsibilities of the Southwest Montana RAC; (3) Election of Conmiittee Chairperson; (4) Meeting structure, processes and agendas; (5) Budget; and (6) Project solicitation. The meeting is open to the public. Time for public input will be provided and individuals will have the opportunity to address the Committee.

Dated: March 18, 2010.
David R. Myers,
Designated Federal Official.

[FR Doc. 2010-6743 Filed 3-26-10; 8:45 am]

BILLING CODE 3410-11-M